DEPARTMENT OF TRANSPORTATION

Federal Aviation Administration

Notice of Intent To Prepare a Supplemental Environmental Impact Statement (SEIS) for the Cal Black Memorial Airport at Halls Crossing, UT

AGENCY: Federal Aviation Administration (FAA), DOT.

ACTION: Notice of Intent to Prepare a Supplemental Environmental Impact Statement.

SUMMARY: The Northwest Mountain Region of the Federal Aviation Administration (FAA) as lead agency and the Bureau of Land Management (BLM) as a cooperating agency announce that the FAA will prepare a Supplemental Environmental Impact Statement (EIS) to address issues arising from the 1993 10th Circuit U.S. Court of Appeals Decision concerning the development of Cal Black Memorial Airport. This supplemental EIS does not involve any new development or project at the airport. The Cal Black Memorial Airport opened in April 1992. To ensure that all significant issues related to the action are identified, additional scoping comments are requested.

Scoping Meeting: Scoping was conducted in 1990 concerning the development of this replacement airport and the transfer of land from the BLM to San Juan County. Subsequent to the 1993 10th Circuit Court Decision, additional scoping was conducted in 1995 and 1998. Additional scoping is being conducted prior to preparing the Supplemental EIS. A scoping meeting for agency representatives will be held at 2 p.m. MST and a scoping meeting for the general public will be held at 6 p.m. MST on Wednesday, September 22, 2010. The meetings will be conducted in Blanding, Utah at the College of Eastern Utah San Juan Campus: 639 West 100 South, Blanding, Utah 84511.

FOR FURTHER INFORMATION CONTACT: Mr. Kevin Luey, Project Manager, Federal Aviation Administration, Northwest Mountain Region, Airports Division, Denver Airports District Office, 26805 E. 68th Ave., Suite 224, Denver, CO 80249-6361 or via E-mail at: Kevin.Luey@faa.gov. Telephone—(303) 342-1253.

Submit Written Comments, Send To: Mr. Kevin Luey, Project Manager, Federal Aviation Administration, Northwest Mountain Region, Airports Division, Denver Airports District Office, 26805 E. 68th Ave., Suite 224, Denver, CO 80249-6361 or via E-mail at: Kevin.Luey@faa.gov.

To be considered, written comments must be received on or before September 30, 2010.

SUPPLEMENTARY INFORMATION: Halls Crossing Airport was located within the boundary of the Glen Canyon National Recreation Area, a unit of the National Park Service (NPS). Due to safety issues with this airport, an EIS was undertaken concerning the development of a replacement airport. In 1990, the FAA issued a Draft and Final Environmental Impact Statement for the development of a replacement Airport. In August 1990, the FAA issued a record of decision approving the development of Cal Black Memorial Airport. The FAA determined in the record of decision that the use of the BLM lands upon which the airport was built were reasonably necessary for the project. Accordingly, the BLM issued a Patent for the airport land to San Juan County on September 25, 1990. In reaching its approval, the FAA determined that no significant impacts would result from the new airport to the recreational experience of visitors to the recreational area.

In 1990, the National Parks and Conservation Association (NPCA), et al brought suit against the FAA concerning the adequacy of the EIS and the adequacy of the BLM Plan Amendment and land transfer process. In its July 7, 1993, decision, the U.S. Court of Appeals, 10th Circuit, remanded the EIS decision back to the FAA for further environmental analysis of aircraft noise impacts to the recreational use of public lands and the BLM's plan amendment and transfer of land.

On November 17, 2008 the BLM issued the Monticello Field Office Record of Decision and Approved Resource Management Plan. The document provides guidance for the management of Federal lands administered by the BLM in San Juan County and a small portion of Grant County in south-east Utah and includes provisions for the disposal of the Cal Black Memorial Airport property.

Thus, the purpose of the Supplemental Environmental Impact Statement is to address the requirements of the U.S. Court of Appeals findings. The scope of the EIS will include: (1) The measurement of actual aircraft noise levels, (2) the evaluation of existing and future aircraft noise levels; and (3) if significant impacts are identified, the evaluation of alternative means of mitigating the significant impact. In addition, the Supplemental EIS will review the transfer of land from BLM to San Juan County for airport purposes.

Issued in Denver, CO on Tuesday, August 17, 2010.
John P. Bauer,
Manager, Denver Airports District Office (Airports Division), Northwest Mountain Region.

[FR Doc. 2010-21211 Filed 8-25-10; 8:45 am]

BILLING CODE 4910-13-P